DEPARTMENT OF HEALTH AND HUMAN SERVICES

DEPARTMENT OF AGRICULTURE

Solicitation of Written Comments on the Scientific Report of the 2015 Dietary Guidelines Advisory Committee; Extension of Comment Period

AGENCY: Office of the Assistant Secretary for Health, Office of the Secretary, Department of Health and Human Services; and Food, Nutrition and Consumer Services and Research, Education, and Economics. U.S. Department of Agriculture.

ACTION: Notice.

SUMMARY: A notice was published in the Federal Register on Monday, February 23, 2015, Vol. 80, No. 35, pages 9465-9466 to announce the availability of the Scientific Report of the 2015 Dietary Guidelines Advisory Committee (Advisory Report) and to solicit written comments on the Advisory Report (among other things). In the notice dated February 23, 2015, it was announced that the due date for providing comments was April 8, 2015. This notice is to announce the extension of the solicitation period to allow for additional time for written comments to be submitted for consideration.

DATES: The comment period is extended and thus will end at 11:59 p.m., E.D.T. on May 8, 2015.

ADDRESSES: The Advisory Report is available on the Internet at www.DietaryGuidelines.gov. Written public comments on the Advisory Report can be submitted and/or viewed at www.DietaryGuidelines.gov using the “Submit Comments” and “Read Comments” links, respectively.

FOR FURTHER INFORMATION CONTACT: Designated Federal Officer (DFO), 2015 DGAC, Richard D. Olson, M.D., M.P.H.; Office of Disease Prevention and Health Promotion, OASH/HHS; 1101 Wootton Parkway, Suite LL100 Tower Building; Rockville, MD 20852: Telephone: (240) 453-8280; Fax: (240) 453-8281; Alternate DFO, 2015 DGAC, Kellie (O'Connell) Casavale, Ph.D., R.D., Nutrition Advisor; Office of Disease Prevention and Health Promotion, OASH/HHS; 1101 Wootton Parkway, Suite LL100 Tower Building; Rockville, MD 20852: Telephone: (240) 453-8280; Fax: (240) 453-8281; Lead USDA Co-Executive Secretary, Colette I. Rihane, M.S., R.D., Director, Office of Nutrition Guidance and Analysis, Center for Nutrition Policy and Promotion, USDA; 3101 Park Center Drive, Room 1034; Alexandria, VA 22302; Telephone: (703) 305-7600; Fax: (703) 305-3300; and/or USDA Co-Executive Secretary, Shanthy A. Bowman, Ph.D., Nutritionist, Food Surveys Research Group, Beltsville Human Nutrition Research Center, Agricultural Research Service, USDA; 10300 Baltimore Avenue, BARC-West Bldg. 005, Room 125; Beltsville, MD 20705-2350; Telephone: (301) 504-0619.

Dated: March 24, 2015.
Don Wright,
Deputy Assistant Secretary for Health, Office of Disease Prevention and Health Promotion, Office of the Assistant Secretary for Health, U.S. Department of Health and Human Services.
Dated: March 24, 2015.
Angela Tagtow,
Executive Director, Center for Nutrition Policy and Promotion, U.S. Department of Agriculture.
Dated: March 23, 2015.
Steven R. Shafer,
Associate Administrator, Agricultural Research Service, U.S. Department of Agriculture.

[FR Doc. 2015-08049 Filed 4-7-15; 8:45 am]

BILLING CODE 4150-32-P